DEPARTMENT OF TRANSPORTATION

Federal Aviation Administration

[Summary Notice No. PE-2009-10]

Petitions for Exemption; Summary of Petitions Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before March 9, 2009.

ADDRESSES: You may submit comments identified by Docket Number FAA-2009-0040 by any of the following methods:

• Government-wide rulemaking Web site: Go to http://www.regulations.gov and follow the instructions for submitting your comments electronically.

• Mail: Send comments to the Docket Management Facility; U.S. Department of Transportation, 1200 New Jersey Avenue, SE., West Building Ground Floor, Room W12-140, Washington, DC 20590.

• Fax: Fax comments to the Docket Management Facility at 1-202-493-2251.

• Hand Delivery: Bring comments to the Docket Management Facility in Room W12-140 of the West Building Ground Floor at 1200 New Jersey Avenue, SE., Washington, DC, between 9 a.m. and 5 p.m., Monday through Friday, except Federal holidays.

• Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

• Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Paul Pellicano, Small Airplane Directorate (ACE-111), Federal Aviation Administration, 901 Locust, Room 301, Kansas City, MO 64106, fax 816-329-4090, telephone 770-703-6064; or Ralen Gao, Office of Rulemaking, ARM-209, Federal Aviation Administration, 800 Independence Avenue, SW., Washington, DC 20591, fax 202-267-5075, telephone 202-267-5075.

This notice is published pursuant to 14 CFR 11.85.

Issued in Washington, DC, on February 10, 2009.
Pamela Hamilton-Powell,
Director, Office of Rulemaking.

Petitions for Exemption

Docket No.: FAA-2009-0040.

Petitioner: Cirrus Design Corporation.

Section of 14 CFR Affected: 14 CFR, part 23, § 23.1419(a).

Description of Relief Sought: To allow the Cirrus Model SR22 to be certified for flight into known icing without meeting the 61 knot stall speed requirement in § 23.1419(a). Cirrus Design Corporation states, in their request for exemption letter, that the increased safety associated with the operational envelope expansion, without a negative impact on aircraft utility, is in the public interest. Cirrus Design Corporation states that the Model SR22 has the compensating factors listed in paragraph 13.a.(c) of Advisory Circular 23.1419-2D, dated April 19, 2007, and, therefore, the level of safety will not be adversely affected by this exemption.

[FR Doc. E9-3348 Filed 2-13-09; 8:45 am]

BILLING CODE 4910-13-P